DEPARTMENT OF HEALTH AND HUMAN SERVICES

Indian Health Service

[OMB Control Number 0917-0034]

Request for Public Comment: 30-Day Proposed Information Collection: Indian Health Service (IHS) Sharing What Works—Best Practice, Promising Practice, and Local Effort (BPPPLE) Form

AGENCY: Indian Health Service, HHS.

ACTION: Notice; correction.

SUMMARY: The Indian Health Service published a 30 day Federal Register notice in the Federal Register (FR) on November 17, 2015 (80 FR 71813) to solicit comments from the general public on the information collection titled, “Indian Health Service (IHS) Sharing What Works—Best Practice, Promising Practice, and Local Effort (BPPPLE) Form,” Office of Management and Budget (OMB) Control Number 0917-0034. The notice was submitted before the 60 day FR notice comment period for the same information collection ends on December 8, 2015. Therefore, the correct date for the deadline to submit comments regarding the 30 day FR notice is January 9, 2016.

ADDRESSES: Direct Your Comments to OMB: Send your comments and suggestions regarding the proposed information collection contained in this notice, especially regarding the estimated public burden and associated response time to: Office of Management and Budget, Office of Regulatory Affairs, New Executive Office Building, Room 10235, Washington, DC 20503, Attention: Desk Officer for IHS.

FOR FURTHER INFORMATION CONTACT: To request additional information, please contact Tamara Clay by one of the following methods:

• Mail: Tamara Clay, Information Collection Clearance Officer, Indian Health Service, Office of Management Services, Division of Regulatory Affairs, 5600 Fishers Lane, Rockville, Mail Stop 09E70, MD 20857.

• Phone: 301-443-4750.

• Email: Tamara.Clay@ihs.gov.

SUPPLEMENTARY INFORMATION:

Corrections

In the Federal Register of November 17, in FR Doc. 2015-29251, on page 71814, in the middle column, under the heading Comment Due Date, the due date is corrected to read as January 9, 2016.

Dated: December 4, 2015.
Robert G. McSwain,
Principal Deputy Director, Indian Health Service.

[FR Doc. 2015-31534 Filed 12-14-15; 8:45 am]

BILLING CODE 4165-16-P